DEPARTMENT OF COMMERCE

National Oceanic and Atmospheric Administration

[RTID 0648-XC526]

Mid-Atlantic Fishery Management Council (MAFMC); Public Meeting

AGENCY: National Marine Fisheries Service (NMFS), National Oceanic and Atmospheric Administration (NOAA), Commerce.

ACTION: Notice; public meeting.

SUMMARY: The Ecosystem and Ocean Planning (EOP) Committee and Advisory Panel (AP) of the Mid-Atlantic Fishery Management Council (Council) will hold a joint meeting. See SUPPLEMENTARY INFORMATION for agenda details.

DATES: The meeting will be held on Wednesday, November 30, 2022, from 9 a.m. to 12 p.m.

ADDRESSES: The meeting will take place over webinar with a telephone-only connection option. Details on how to connect to the webinar by computer and by telephone will be available at: www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is for the EOP Committee and AP to begin a comprehensive review of the Council's Ecosystem Approach to Fisheries Management (EAFM) risk assessment. The Council completed the initial risk assessment in 2017 to provide a snapshot of the current risks to meeting management objectives and helps the Council decide where to focus resources to address priority ecosystem considerations. This comprehensive review will allow the Council to evaluate new and existing objectives and risk elements and consider new information and analyses that are available to help update the risk assessment. It is anticipated the review will be completed in the fall of 2023.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: November 7, 2022.
Rey Israel Marquez,
Acting Deputy Director, Office of Sustainable Fisheries, National Marine Fisheries Service.

[FR Doc. 2022-24631 Filed 11-10-22; 8:45 am]

BILLING CODE 3510-22-P